DEPARTMENT OF ENERGY

Federal Energy Regulatory Commission

[Docket No. RP04-338-000]

Eastern Shore Natural Gas Company; Notice of Proposed Changes In Ferc Gas Tariff

June 24, 2004.

Take notice that on June 22, 2004, Eastern Shore Natural Gas Company (Eastern Shore) tendered for filing as part of its FERC Gas Tariff, revised tariff sheets to implement cash out surcharge rate of $0.0033 per dekatherm, proposed to be effective July 1, 2004, designed to recover the under-recovered balance in its cash out account at March 31, 2004.

Eastern Shore states that Section 35, of the General Terms & Conditions (GT & C) of its FERC Gas Tariff, newly entitled Cash Out Refund/Surcharge, provides that Eastern Shore will refund or surcharge for each annual billing period any difference between the revenues received and the costs incurred under the cash out provisions of its tariff. Eastern Shore also states that the annual billing period referenced above shall be the twelve-month period commencing April 1st and ending the following March 31st.

Eastern Shore further states that it, subsequent to the end of each such annual billing period, Eastern Shore shall compare the revenues received by it under the cash-out procedures to the costs incurred. Eastern Shore notes that, if the revenues received exceed the costs incurred, then Eastern Shore shall refund, within sixty (60) calendar days of the end of the annual billing period, the net over-recoveries to firm transportation customers on a pro rata basis in accordance with the transportation quantities Eastern Shore has delivered during the annual billing period. Eastern Shore also states that, if the revenues received are less than the costs incurred, then Eastern Shore shall recover the net under recoveries by means of a surcharge applicable to each dekatherm delivered to all firm and interruptible transportation customers. Eastern Shore notes that such surcharge, to be effective July 1 of each year, shall be calculated by dividing the net under recovered balance by the total transportation quantities delivered by Eastern Shore during the annual billing period.

Eastern Shore states that copies of its filing have been mailed to its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1468 Filed 6-30-04; 8:45 am]

BILLING CODE 6717-01-P